DEPARTMENT OF ENERGY

Federal Energy Regulatory Commission

Notice Concerning All Permitted Hard Copy Submissions

As a result of onsite personnel recently being exposed to a positive COVID-19 case, the Commission is temporarily delaying the processing of all permitted hard copy submissions to the Commission's Headquarters at 888 First Street NE, Washington, DC 20426. Permitted hard copy filings will be processed after clearance has been given for relevant staff to re-enter the Commission's Headquarters. Accepted hard copy filings will be given the date that the filing was received by the Commission as the “File Date.” This notice will remain in effect for 7 days from the date of its issuance and may be renewed at the conclusion of this period.

This notice does not change the process for submitting electronic filings with the Commission. The public is strongly encouraged to continue to submit filings and submissions electronically, through the Commission's eFiling application, at https://www.ferc.gov/. More detailed information relating to electronic filing requirements can be found at: http://www.ferc.gov/docs-filing/efiling/filing-req.pdf. For assistance with filing electronically, contact FERC at FERCOnlineSupport@ferc.gov or call toll-free, (886) 208-3676 or TYY, (202) 502-8659.

Dated: December 4, 2020.
Kimberly D. Bose,
Secretary.

[FR Doc. 2020-27132 Filed 12-9-20; 8:45 am]

BILLING CODE 6717-01-P